DEPARTMENT OF JUSTICE

Notice of Lodging of Settlement Agreement Under the Comprehensive Environmental Response, Compensation, and Liability Act (CERCLA)

Notice is hereby given that on October 28, 2010, a proposed Settlement Agreement was filed with the United States Bankruptcy Court for the District of Delaware in In re: Smurfit Stone Container Corporation, et al., Case No. 09-10235 (Jointly Administered). The proposed settlement agreement resolves cost recovery claims under Section 107 of the Comprehensive Environmental Response, Compensation, and Liability Act of 1980, as amended (“CERCLA”), 42 U.S.C. 9607, for:

(1) Response costs incurred and to be incurred by the Environmental Protection Agency (“EPA”) in connection with response actions performed by EPA at the following sites: Sauer Dump Site in Dundalk, Maryland; 68th Street Dump Site in Baltimore, Maryland; Casmalia Disposal Site near Santa Maria, California; BCX Tank Superfund Site in Jacksonville, Florida; Ward Transformer Site, Raleigh, North Carolina; and the Portland Harbor Superfund Site in Portland, Oregon;

(2) removal costs pursuant to the Oil Pollution Act (“OPA”), 33 U.S.C. 2701-2762, in connection with the discharge of oil from Debtor's Portland Harbor Superfund Site; and

(3) natural resource damages and assessment costs, incurred and to be incurred by the Department of the Interior and National Oceanic and Atmospheric Administration (collectively, “natural resource trustees”), at and near Debtor's Portland Harbor facility.

Pursuant to the Settlement Agreement, Smurfit will distribute stock on account of allowed bankruptcy claims in the total amount of $15,358,174.00 for federal environmental claims—$12,358,174.00 for EPA claims and $3,000,000.00 for natural resource trustee claims.

For thirty (30) days after the date of this publication, the Department of Justice will receive comments relating to the Settlement Agreement. Comments should be addressed to the Acting Assistant Attorney General, Environment and Natural Resources Division, and either e-mailed to pubcomment-ees.enrd@usdoj.gov or mailed to P.O. Box 7611, U.S. Department of Justice, Washington, DC 20044-7611. In either case, comments should refer to In re: Smurfit Stone Container Corporation, et al., Case No. 09-10235 (Bankr. Del.), D.J. Ref. No. 90-11-3-09733. Commenters may request an opportunity for a public meeting in the affected areas, in accordance with section 7003(d) of RCRA, 42 U.S.C. 6973(d).

The proposed Settlement Agreement may be examined at the Office of the United States Attorney for the District of Delaware, Chemical Bank Plaza, 1201 N Market St., # 2300, Wilmington, DE 19899 and at the Headquarters office of the Environmental Protection Agency, Ariel Rios Building, 1200 Pennsylvania Avenue NW., Washington, DC 20004. During the comment period, the proposed Settlement Agreement may also be examined on the following Department of Justice Web site: http://www.usdoj.gov/enrd/Consent_Decree.html. A copy of the proposed Settlement Agreement may also be obtained by mail from the Department of Justice Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Settlement agreement Library, please enclose a check in the amount of $11.00 for the Settlement Agreement (25 cents per page reproduction costs) payable to the United States Treasury or, if by e-mail or fax, forward a check in that amount to the Consent Decree Library at the stated address.

Maureen Katz,
Assistant Section Chief, Environmental Enforcement Section, Environment and Natural Resources Division.

[FR Doc. 2010-27706 Filed 11-2-10; 8:45 am]

BILLING CODE 4410-15-P